DEPARTMENT OF TRANSPORTATION

Federal Aviation Administration

Public Notice for Waiver of Aeronautical Land-Use Assurance; Outagamie County Airport; Appleton, WI

AGENCY: Federal Aviation Administration, DOT.

ACTION: Notice of intent of waiver with respect to land.

SUMMARY: The Federal Aviation Administration (FAA) is considering a proposal to authorize the release of a portion of the airport property. The Wisconsin Department of Transportation is widening State HWY 96 on the north edge of the airport. They need a total of 3.35 acres in narrow strip of land for the road widening and HWY right of way. The airport will benefit with better access to the airport, improved drainage, burying an overhead power line and new fencing. The Federal Highway Administration issued a Finding of No Significant Impact on September 30, 2002. The acreage being released is not needed for aeronautical use as currently identified on the Airport Layout Plan.

The acreage comprising this parcel was originally acquired under Grant No. FAAP 601 in 1966, FAAP C903 in 1968 and ADAP 01 in 1972. The County of Outagamie (Wisconsin), as airport owner, has concluded that the subject airport land is not needed for expansion of airport facilities. There are no impacts to the airport by allowing the airport to dispose of the property. The airport will receive the appraised fair market value of the land. Approval does not constitute a commitment by the FAA to financially assist in the disposal of the subject airport property nor a determination of eligibility for grant-in-aid funding from the FAA. The disposition of proceeds from the disposal of the airport property will be in accordfance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before October 12, 2007.

ADDRESSES: Ms. Sandra E. DePottey, Program Manager, Federal Aviation Administration, Airports District Office, 6020 28th Avenue South, Room 102, Minneapolis, MN 55450-2706. Telephone Number (612) 713-4350/Fax Number (612) 713-4564. Documents reflecting this FAA action may be reviewed at this same location or at the Outagamie County Airport, Challenger Dr., Appleton WI 54153.

FOR FURTHER INFORMATON CONTACT: Ms. Sandra E. DePottey, Program Manager, Federal Aviation Administration, Airports District Office, 6020 28th Avenue South, Room 102, Minneapolis, MN 55450-2706. Telephone Number (612) 713-4350/FAX Number (612) 713-4364. Documents reflecting this FAA action may be reviewed at this same location or at the Outagamie County Airport, Challenger Dr., Appleton WI 54153.

SUPPLEMENTARY INFORMATION: Following is a legal description of the subject airport property to be released at Outagamie County Airport in Appleton, Wisconsin and described as follows:

A parcel of land located in Northeast ¼ of the Northeast ¼ of Section 26, T21N, R16E and North ½ of Northwest ¼ of Section 25, T21N, R16E, Town of Greenville, Outagamie County WI.

Said parcel subject to all easements, restrictions, and reservations of record.

Issued in Minneapolis, MN on August 23, 2007.
Robert A. Huber,
Manager, Minneapolis Airports District Office, FAA, Great Lakes Region.

[FR Doc. 07-4477 Filed 9-11-07; 8:45 am]

BILLING CODE 4910-13-M